DEPARTMENT OF AGRICULTURE

Commodity Credit Corporation

Farm Service Agency

Notice of Funds Availability; 2002 Cattle Feed Program

AGENCY: Farm Service Agency, USDA.

ACTION: Notice.

SUMMARY: This Notice announces the availability of $150 million under section 32 of the Act of August 24, 1935 (section 32) and Commodity Credit Corporation (CCC)-owned nonfat dry milk (NDM) to implement the 2002 Cattle Feed Program (CFP). This program will provide feed assistance to foundation beef cattle operations in Nebraska, South Dakota, Colorado, and Wyoming. The CFP is designed to provide feed assistance to eligible foundation beef herd owners/lessees in areas most severely stricken by drought. The program is available only in Nebraska, Colorado, Wyoming and South Dakota. These States were selected because the most recent data shows that at least 75 percent of the pasture and range crops in these states are rated “poor” or “very poor” with more than 50 percent of these acres rated as “very poor.” At the time of the selection of States for participation in the 2002 Cattle Feed Program, other drought-impacted States' pasture and range crops rating were in the 75 percent category; however, their “very poor” rating was significantly less than 50 percent. Accordingly, the four States with the very worst overall rating were determined to have the most dire immediate need for assistance to prevent further liquidation of foundation beef herds. An approximate forty-day supply of feed will be provided under CFP, which should feed the eligible livestock in these four States until fall grazing and additional roughage becomes available. This forty-day feed assistance period is neither too short a time to be ineffective nor an unnecessarily long period for sustenance, and was a consideration in determining the States to be included as eligible for participation in 2002 CFP. The Farm Service Agency (FSA), through a signup process, will determine eligible producers and the amount of assistance that will be available in the form of a feed credit to be used at participating feed dealers. FSA will also cooperate with feed mills to help distribute the supplemental feed. Stocks of nonfat dry milk owned by the CCC will be made available to the feed industry at a reduced price to help reduce the feed cost.

DATES: FSA will begin accepting applications on August 28, 2002. The deadline for receipt of an application Form FSA-551 is December 2, 2002. FSA will not consider any application received after the deadline.

FOR FURTHER INFORMATION CONTACT: Lynn Tjeerdsma, Chief, Emergency Preparedness and Programs Branch, USDA/FSA/DAFP/Stop 0517, 1400 Independence Ave., SW., Washington, DC 20250-0522; telephone (202) 720-7641; facsimile (202) 690-3610; electronic mail: Lynn_Tjeerdsma@wdc.usda.gov; or Candy Thompson, Deputy Director, Warehouse and Inventory Division USDA/FSA/DACO/Stop 0553, 1400 Independence Ave. SW., Washington, DC 20250-0; telephone (202) 720-6004; facsimile (202) 690-3123; electronic mail: Candyy_Thompson@wdc.usda.gov. Persons with disabilities who require alternative means for communication of regulatory information (braille, large print, audiotape, etc.) should contact USDA's TARGET Center at (202) 720-2600 (voice and TDD).

SUPPLEMENTARY INFORMATION:

Executive Order 12372

This program is not subject to the provisions of Executive Order 12372, which requires with State and local officials.

Environmental Compliance

The environmental impacts of the program to be implemented by this notice have been considered in accordance with the provisions of the National Environmental Policy Act of 1969 (NEPA, 42 U.S.C. 4321, et seq.) Based on the nature and scope of this notice, FSA has concluded that the notice will not have any significant impacts upon the human environment as documented through the completion of an environmental evaluation. A copy of the environmental evaluation is available for inspection and review upon request. Therefore, the agency has determined that this program is a categorical exclusion and no further environmental review is required.

Paperwork Reduction Act

A request for emergency clearance of the information collections associated with this notice has been approved by the Office of Management and Budget (OMB) under 5 CFR 1320.13(a)(2)(iii), and been assigned clearance number 0560-0222.

I. Definitions Applicable to 2002 Cattle Feed Program

Agency means the Farm Service Agency, or the Commodity Credit Corporation, their employees, and any successor agency.

Applicant means the individual or business entity applying for assistance.

Beef cattle means bovine livestock produced for the sole purpose of providing meat for human consumption.

Breeding bull means a male bovine of adequate age to be used for breeding purposes and is included in a foundation beef herd.

Brood cow means a female bovine that has delivered one or more offspring, and is part of a foundation beef herd.

Business entity means a corporation, partnership, joint operation, trust, limited liability company, or cooperative.

Deputy Administrator or DAFP means the Deputy Administrator of Farm Programs, Farm Service Agency (FSA), or a designee.

Eligible feed means manufactured feed that is suitable to be fed to beef cows, bulls, and replacement heifers, and made available from the eligible feed supplier to be exchanged for feed credit.

Eligible livestock means foundation beef livestock that have been owned, or cash leased by the applicant for 3 or more months prior to August 12, 2002. Foundation beef livestock subject to a contract for purchase by the applicant that was negotiated prior to May 12, 2002, are eligible livestock.

Eligible State means Colorado, Nebraska, South Dakota, or Wyoming.

Eligible Feed Supplier means a feed supplier or dealer who has signed a contract with FSA to participate in the 2002 Cattle Feed Program, and has been assigned a 4-digit numeric ID code by FSA.

Foundation livestock means a herd of beef cattle kept for the sole purpose of breeding and reproduction of beef cattle. A foundation herd consists of brood cows, replacement bred heifers (not to exceed 15 percent of the number of brood cows in the foundation beef herd), and breeding bulls (not to exceed one bull per 15 head of brood cows and replacement bred heifers).

Ineligible livestock means buffalo; beefalo; dairy cattle; cattle added to the foundation beef herd after May 12, 2002; neutered beef cattle; foundation livestock that died or were sold by the applicant before August 12, 2002. All other bovine livestock that are not foundation livestock or beef cattle are ineligible.

Replacement bred heifer means a pregnant female bovine that has not borne any offspring.

II. Appeals

An applicant may request an appeal or review of an adverse decision made by the Agency in accordance with 7 CFR parts 11 and 780, or its successor regulation.

III. Eligibility Requirements

Applicants must meet all of the following requirements to be eligible for the 2002 Cattle Feed Program:

1. Timely application. The applicant must submit a signed Form FSA-551 completed to the best of the applicant's ability to the Agency, no earlier than August 28, 2002, and no later than December 2, 2002, or such earlier date as FSA may announce.

2. Foundation livestock owner or lessee. The applicant must own, be subject to a contract to purchase, or cash lease, eligible livestock.

3. Foundation livestock located in eligible state. The applicant's eligible livestock must have been physically located in an eligible State on August 12, 2002.

IV. Gross Revenue Limitation: None

V. Payment Limitation: None

VI. Determining the Amount of Assistance

The National Agricultural Statistics Service (NASS) and other USDA data indicate the following:

Foundation Beef Livestock Numbers in Four Eligible States
State | Beef cows | Beef cow replacement heifers | Bulls | Total
Colorado | 799,000 | 120,000 | 45,000 | 964,000
Nebraska | 1,932,000 | 285,000 | 100,000 | 2,317,000
South Dakota | 1,792,000 | 300,000 | 95,000 | 2,187,000
Wyoming | 815,000 | 165,000 | 50,000 | 1,030,000
Total | 5,338,000 | 870,000 | 290,000 | 6,498,000

A total of $150 million in Section 32 funds is available to FSA. A reserve of $546,000 allows a total of $149,454,000 available for feed credit. Dividing that available funding by the 6,498,000 estimated eligible livestock in the four States results in $23.00. Thus, feed credit in the amount of $23.00 will be made available from FSA for each head of eligible livestock.

VII. Applicant Certification of Eligible Livestock

The quantity of eligible livestock must be specified by the owner or lessee on Form FSA-551. The applicant will report to FSA the number of eligible livestock that died or are sold, beginning with the date of application through December 12, 2002, only when the number of dead or sold eligible livestock exceeds 5 percent of the total number of eligible foundation livestock certified on the Form FSA-551.

VIII. Payment Eligibility

In order to receive a payment the applicant must, as of May 12, 2002, be an owner, lessee, or under contract to purchase eligible foundation beef livestock in an eligible State; submit a Form FSA-551 to FSA; receive FSA approval on such form; and meet all other eligibility requirements.

IX. Payment Amount (Feed Credit)

The number of eligible foundation beef cattle multiplied by the rate of $23.00 equals the feed credit amount to be used to purchase feed for eligible livestock at participating FSA-approved feed processor/dealer.

X. Length of Term Feed Assistance Will Provide

For a beef cow, the feed requirement used for previous FSA-administered feed assistance programs, such as the Livestock Assistance Program found at 7 CFR 1439 is converted to a corn equivalent of 15.7 pounds of corn per day. Using an Olympic five-year average of 1995-2000 corn prices, the national average price for corn is calculated at $2.07 per bushel or $0.037 per pound. The support feeding rate of 15.7 pounds of corn multiplied by $0.037 per pound of corn required per day to support a beef cow is equivalent to $0.58 per day to feed a beef cow. The subsistence level of $0.58 per day divided into the $23.00 feed assistance results in an approximate 40 day period that the 2002 Cattle Feed Program will provide assistance to feed eligible beef cattle.

XI. How the 2002 CFP Will Work

On the CFP application, the applicant who is an owner of eligible livestock in Colorado, Nebraska, South Dakota, or Wyoming will provide FSA with and certify to (1) The applicant's name; (2) taxpayer identification number; (3) address; (4) number of eligible livestock, and (5) pasture location and acreage. The applicant also will identify from an FSA supplied list of feed suppliers, the supplier where the applicant will receive feed credit from FSA for manufactured feed for eligible livestock. FSA will enter into a contract with participating feed processors/dealers to: (1) Provide feed to producers according to their eligibility and at no cost to the producer, and (2) purchase NDM at $0.01 per 25 kg/55.115 lb. bag, to be used to supplement the protein content of the manufactured feed for the eligible beef cattle under CFP. After FSA County Committee approval of the CFP application, the information on the application will be transmitted to FSA's Kansas City Commodity Office (KCCO) from the county office. KCCO will transmit each eligible producer's name, taxpayer identification number, and eligibility amount, to feed processors under contract with FSA. Feed suppliers will establish a credit for use by the producer to obtain eligible feed from the feed supplier. Feed suppliers will invoice FSA periodically for payment of feed provided to the producers.

XII. Misrepresentation, Scheme or Device

A person shall be ineligible to receive assistance under this part, and be subject to such other remedies as may be allowed by law, if, with respect to such program, it is determined by an official of FSA, that such person has:

(a) Adopted any scheme or other device that tends to defeat the purpose of the program operated under this Notice;

(b) Made any fraudulent representation with respect to this program; or

(c) Misrepresented any fact affecting a program determination.

XIII. Liens and Claims of Creditors

Any benefit or portion thereof due any person under this program shall be allowed without regard to questions of title under State law, and without regard to any claim or lien in favor of any person, including agencies of the U.S. Government.

XIV. Power of Attorney

In those instances in which, prior to the issuance of this Notice, a producer has signed a power of attorney on an approved form FSA-211 for a person or entity indicating that such power shall extend to all programs listed on the form, without limitation, such power will be considered to extend to this program unless by September 6, 2000, the person granting the power notifies the local FSA office for the control county that the grantee of the power is not authorized to handle transactions for this program for the grantor.

XV. Administration

Where circumstances preclude compliance due to circumstances beyond the applicant's control, the county or State FSA committee may request that relief be granted by the Deputy Administrator under this Notice. In such cases, except for statutory deadlines and other statutory requirements, the Deputy Administrator may, in order to more equitably accomplish the goals of this Notice, waive or modify deadlines and other program requirements if the failure to meet such deadlines or other requirements does not adversely affect operation of the program and are not prohibited by statute.

Signed at Washington, DC, on August 27, 2002.
Teresa C. Lasseter,
Acting Administrator, Farm Service Agency,and Executive Vice President, Commodity Credit Corporation.

[FR Doc. 02-22437 Filed 8-29-02; 9:04 am]

BILLING CODE 3410-05-P